DEPARTMENT OF STATE

22 CFR Part 22

[Public Notice 3503]

Schedule of Fees for Consular Services

AGENCY: Department of State.

ACTION: Interim rule; stay of regulation.

SUMMARY: The Department of State is staying the amendment of the schedule of fees for the affidavit of support processing fee published in the Federal Register of September 7, 2000 (65 FR 54148-54150).

DATES: Effective December 14, 2000, Item 61 of 22 CFR 22.1 is stayed until January 1, 2001.

FOR FURTHER INFORMATION CONTACT: Susan Abeyta, Office of the Executive Director, Bureau of Consular Affairs, Department of State, SA-1, 10th Floor, 2401 E Street, NW., Washington DC 20522-0111; telex (202) 663-2499; e-mail address abeytask@state.gov.

SUPPLEMENTARY INFORMATION: On September 7, 2000, (65 FR 54148-54150) the Department published a rule adding a new item, Item 61, to the Schedule of Fees for consular services. Item 61 calls for a fee of $50.00 for review of a newly-required Affidavit of Support, Form I-864, when submitted in support of an application for immigration to the United States. The rule established October 1, 2000, as the effective date for collection of this new fee. For technical reasons, the Department was unable to begin this program on that date. This rule applies to posts designated for this purpose by the Deputy Assistant Secretary for Visa Services.

List of Subjects in 22 CFR Part 22

Schedule of Fees for Consular Services.

22 CFR Part 22 is amended as follows:

PART 22—SCHEDULE OF FEES FOR CONSULAR SERVICES—DEPARTMENT OF STATE AND FOREIGN SERVICE

1. The authority citation for Part 22 continues to read:

Authority: 8 U.S.C. 1153 note, 1151, 1151 note; 10 U.S.C. 2602(c); 22 U.S.C. 214, 2504(a), 4201, 4206, 4215, 4219; 31 Y,/s,/c, 9701; E.O. 10718; 22 FR 4632, 3 CFR 1954-1958 Comp., p. 382; E.O. 11295, 31 FR 10603, 3 CFR 1966-1970 Comp., p. 570.

§ 22.1 [Amended]

2. Stay § 22.1, Item 61 until January 1, 2001.

Dated: November 27, 2000.
Bonnie R. Cohen,
Under Secretary for Management.

[FR Doc. 00-31740 Filed 12-13-00; 8:45 am]

BILLING CODE 4710-06-P